DEPARTMENT OF AGRICULTURE

Animal and Plant Health Inspection Service

9 CFR Part 72

[Docket No. 01-110-1]

Texas (Splenetic) Fever in Cattle; Incorporation by Reference

AGENCY: Animal and Plant Health Inspection Service, USDA.

ACTION: Interim rule and request for comments.

SUMMARY: We are amending the Texas (splenetic) fever in cattle regulations by updating the incorporation by reference of the Texas Animal Health Commission's regulations that contain the description of the areas in Texas quarantined because of ticks. This action is necessary to update the incorporation by reference to reflect the effective date of the current Texas Animal Health Commission's regulations that describe the quarantined area.

DATES: This interim rule is effective April 16, 2002. The incorporation by reference provided for by this rule is approved by the Director of the Federal Register as of April 16, 2002. We will consider all comments we receive that are postmarked, delivered, or e-mailed by June 17, 2002.

ADDRESSES: You may submit comments by postal mail/commercial delivery or by e-mail. If you use postal mail/commercial delivery, please send four copies of your comment (an original and three copies) to: Docket No. 01-110-1, Regulatory Analysis and Development, PPD, APHIS, Station 3C71, 4700 River Road Unit 118, Riverdale, MD 20737-1238. Please state that your comment refers to Docket No. 01-110-1. If you use e-mail, address your comment to regulations@aphis.usda.gov. Your comment must be contained in the body of your message; do not send attached files. Please include your name and address in your message and “Docket No. 01-110-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Dave Wilson, Senior Staff Entomologist, Emergency Programs Staff, VS, APHIS, 4700 River Road Unit 41, Riverdale, MD 20737-1231; (301) 734-8073.

SUPPLEMENTARY INFORMATION:

Background

The regulations in 9 CFR part 72, Texas (Splenetic) Fever in Cattle (referred to below as the regulations), restrict the interstate movement of cattle from areas quarantined because of ticks that are vectors of bovine babesiosis. This disease is referred to in the regulations as splenetic or tick fever. Splenetic or tick fever is a contagious, infectious, and communicable disease of cattle that causes cattle to become weak and dehydrated and can cause death.

Section 72.3 quarantines Guam, the Northern Mariana Islands, Puerto Rico, and the U.S. Virgin Islands. Previously, § 72.5 specifically described the area in Texas that was quarantined because of ticks. However, in a final rule published in the Federal Register on July 30, 1999 (64 FR 41265-41266, Docket No. 96-067-2), we replaced that description with an incorporation by reference of the Texas Animal Health Commission's (TAHC) regulations in § 41.2 of title 4, part II, Texas Administrative Code (4 TAC 41.2), that describe the quarantined area in Texas. The effective date of the TAHC regulations that we incorporated by reference was July 22, 1994.

On March 30, 2001, the TAHC published a document in the Texas Register (26 TexReg 2534) in which it adopted amendments to the tick quarantine zone described in 4 TAC 41.2. Those amendments became effective on April 8, 2001. Therefore, in order for our regulations to accurately reflect the effective date of the current TAHC regulations in 4 TAC 41.2, we are amending the incorporation by reference in § 72.5 to specify the April 8, 2001, effective date of the current TAHC regulations.

Immediate Action

Immediate action is necessary to update the regulations to ensure that they accurately describe the areas of Texas quarantined because of ticks, which will help prevent the spread of splenetic fever. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

The Animal and Plant Health Inspection Service's (APHIS) regulations in 9 CFR part 72 restrict the interstate movement of cattle from areas quarantined because of the presence of ticks that are vectors of bovine babesiosis, also known as splenetic or tick fever. The TAHC's regulations in 4 TAC 41.2 describe the quarantined area in Texas; those TAHC regulations are incorporated by reference in APHIS' regulations in § 72.5.

This rule will update the incorporation by reference in § 72.5 so that it refers to the currently effective TAHC regulations describing the quarantined area in Texas. We do not expect this rule to have an economic effect on any entities, large or small, because the description of Texas' tick eradication areas is defined and established by the TAHC; this rule simply updates our regulations so they refer to the current description of those areas in the TAHC's regulations.

As of September 30, 2001, only 14 premises were quarantined by the TAHC. APHIS' regulations require that cattle from these premises be dipped, inspected, and certified before they are moved interstate. Costs related to these activities are very small, particularly when compared to benefits to the Nation of the cattle fever tick eradication program in preventing the spread of this disease.

Under these circumstances, the Administrator of the Animal and Plant Health Inspection Service has determined that this action will not have a significant economic impact on a substantial number of small entities.

Executive Order 12372

This program/activity is listed in the Catalog of Federal Domestic Assistance under No.10.025 and is subject to Executive Order 12372, which requires intergovernmental consultation with State and local officials. (See 7 CFR part 3015, subpart V.)

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

This interim rule contains no new information collection or recordkeeping requirements under the Paperwork Reduction Act of 1994 (44 U.S.C. 3501 et seq.).

List of Subjects in 9 CFR Part 72

Animal diseases, Cattle, Incorporation by reference, Quarantine, Transportation.

Accordingly, we are amending 9 CFR part 72 as follows:

PART 72—TEXAS (SPLENETIC) FEVER IN CATTLE

1. The authority citation for part 72 continues to read as follows:

Authority: 21 U.S.C. 111-113, 115, 117, 120, 121, 123-126, 134b, and 134f; 7 CFR 2.22, 2.80, and 371.4.

§ 72.5 [Amended]

2. In § 72.5, the first sentence is amended by removing the date “July 22, 1994” and adding the date “April 8, 2001” in its place.

Done in Washington, DC, this 10th day of April 2002.
Bobby R. Acord,
Administrator, Animal and Plant Health Inspection Service.

[FR Doc. 02-9209 Filed 4-15-02; 8:45 am]

BILLING CODE 3410-34-U